DEPARTMENT OF THE INTERIOR

National Park Service

National Register of Historic Places; Notification of Pending Nominations and Related Actions

Nominations for the following properties being considered for listing or related actions in the National Register were received by the National Park Service before November 15, 2008. Pursuant to section 60.13 of 36 CFR Part 60, written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by December 17, 2008.

J. Paul Loether,
Chief, National Register of Historic Places/National Historic Landmarks Program.

CONNECTICUT

Hartford County

Spring Grove Cemetery, 2035 Main St., Hartford, 08001203

DELAWARE

New Castle County

West 9th Street Commercial Historic District, 111-320 W. 9th St., 901-909 N. Orange St., 825-901 N. Tatnall St., Wilmington, 08001204

DISTRICT OF COLUMBIA

District of Columbia

Randall Junior High School, (Public School Buildings of Washington, DC MPS) 65 I St., SW., Washington, D.C., 08001205

Shaw Junior High School, (Public School Buildings of Washington, DC MPS) 7th St. and Rhode Island Ave., NW., Washington, DC, 08001206

INDIANA

Hamilton County

Castor Farm Site, Address Restricted, Noblesville, 08001207

Hancock County

Barr, Charles, House, 25 W. Walnut St., Greenfield, 08001208

Howard County

Kokomo Courthouse Square Historic District, Bounded by Taylor St. on the N., Market St. on the E., Superior St. on the S., Washington St. on the W., Kokomo, 08001209

Old Silk Stocking Historic District, Bounded by W. Jackson St. on the N., Washington St. on the E., Wildcat Creek in the S., Phillips St. on the W., Kokomo, 08001210

Lake County

Rumsey, J. Claude, House, 709 Michigan Ave., Lowell, 08001211

Madison County

Madison County Bridge No. 149, Fall Creek Pkwy and Huntsville Pk. over Fall Creek, Pendleton, 08001212

Sullivan County

Sullivan County Courthouse, 100 Courthouse Sq., Sullivan, 08001213

LOUISIANA

Iberia Parish

New Iberia (steamboat) shipwreck, Address Restricted, New Iberia, 08001214

MARYLAND

Allegany County

Rolling Mill Historic District, Portions of Williams, Elm, Spring, Short, Baker, and Ascension Sts., Miltenberger Pl., Sheridan Pl., Maryland Ave., Cumberland, 08001215

Anne Arundel County

Skipworth's Addition, (Quaker Sites in the West River Meeting, Anne Arundel County, Maryland c. 1650-1785) Address Restricted, Harwood, 08001216

Baltimore County

Bellona-Gittings Historic District, Bounded by E. Lake, Melrose and Gittings Aves., York Rd., Charles Rd., Charlesbrooke and Overbrook Rds., Baltimore, 08001217

Baltimore Independent city

Bellona-Gittings Historic District, Bounded by E. Lake, Melrose and Gittings Aves., York Rd., Charles Rd., Charlesbrooke and Overbrook Rds., Baltimore, 08001217

Washington County

Sharpsburg Historic District, E. and W., Chapline, Antietam, and High Sts., N. and S. Church, Mechanic, Hall, and Potomac Sts., Sharpsburg, 08001218

MONTANA

Flathead County

Apgar's Glacier Park Cottage Sites Historic District, (Recreational Camps on Lake McDonald, MT) E. side of Grist Rd., W. shore of Lake McDonald, Glacier National Park, West Glacier, 08001220

Beck, Alice, Cabin, (Recreational Camps on Lake McDonald, MT) S. of Kelly's Camp Rd., E. of McDonald Creek, Glacier National Park, Lake McDonald, 08001219

Blair's Cottage Sites Historic District, (Recreational Camps on Lake McDonald, MT) S. side of Grist Rd., Glacier National Park, West Glacier, 08001221

Greve's Tourist Cabins, (Recreational Camps on Lake McDonald, MT) W. side of Going-to-the-Sun Rd., Glacier National Park, Lake McDonald, 08001222

Howes' Lake McDonald Cottage Sites Historic District, (Recreational Camps on Lake McDonald, MT) N. side of Apgar Loop Rd., Glacier National Park, West Glacier, 08001223

Kelly's Camp Historic District, (Recreational Camps on Lake McDonald, MT) S. of Kelly's Camp Rd. between Kelly's Creek and by S. of cabins, Glacier National Park, Lake McDonald, 08001224

Lewis's Cabin Lots Historic District, (Recreational Camps on Lake McDonald, MT) NE. of Lake McDonald Lodge on shoreline, Glacier National Park, Lake McDonald, 08001225

Sherwood Lodge, (Recreational Camps on Lake McDonald, MT) Grist Rd., Glacier National Park, West Glacier, 08001226

MONTANA

Yellowstone County

L and L Building, 2624 Minnesota Ave., Billings, 08001227

Oliver Building, 2702 Montana Ave., Billings, 08001228

NEW YORK

Chemung County

Buildings at 104-116 West Water St., 104-116 W. Water St., Elmira, 08001230

Scotchtown Cemetery, NY Rt. 223, Erin, 08001229

Erie County

Sardinia Old Town Hall, 12070 Savage Rd., Sardinia, 08001231

Orange County

St. Andrew's Cemetery, St. Andrew's Rd. and Plains Rd., Walden, 08001232

NORTH DAKOTA

Grand Forks County

University of North Dakota Historic District, University of North Dakota, Grand Forks, 08001233

WEST VIRGINIA

Cabell County

Barboursville Historic District, Water, Main, Brady Sts., and Central Ave., Barboursville, 08001234

Wellington, Zachary Taylor, House, 415 Main St., Huntington, 08001235

Greenbrier County

Argabrite House, 504 Virginia St., Alderson, 08001236

Hardy County

Kotz, Francis, Farm, 27625 St. Rt. 55, Wardensville, 08001237

Switzer, Nicholas, House, Co. Rt. 5 and Waites Run, Wardensville, 08001238

Mineral County

Davis, Henry Glassaway, House, 15-17 Jones St., Piedmont, 08001239

Randolph County

Scott Hill, 2000 Livingston Ave., Elkins, 08001240

WISCONSIN

Columbia County

Holborn, George and Tuve, House, 10507 WI 60, Lodi, 08001241

Request for removal has been made for the following resources:

OREGON

Marion County

Paris Wooden Mill, 535 E. Florence St., Stayton, 81000511

Washington County

Washington County Jail, 872 NE. 28th Ave., Hillsboro, 86002090

[FR Doc. E8-28627 Filed 12-1-08; 8:45 am]

BILLING CODE 4310-70-P